Proclamation 8511 of April 29, 2010

Law Day, U.S.A., 2010

By the President of the United States of America

A Proclamation

For over two centuries, our Nation has adhered to the rule of law as the foundation for a safe, free, and just society. President Eisenhower, seeking to formally recognize this tradition, established Law Day in 1958 as “a day of national dedication to the principles of government under law.” Each Law Day, we celebrate our commitment to the rule of law and to upholding the fundamental principles enshrined in our founding documents.

Today, we can travel, communicate, and conduct business around the world faster than ever before. The theme of this year’s Law Day, “Law in the 21st Century: Enduring Traditions and Emerging Challenges,” reminds us to draw upon and adapt our time-honored legal traditions to meet the demands of a global era. The prosperity we enjoy as a Nation of laws increasingly depends on preserving the rights and liberties not just in our own country but also in other nations.

In an increasingly interconnected world, legal issues of human rights, criminal justice, intellectual property, business transactions, dispute resolution, human migration, and environmental regulation affect us all. The enduring legal principles of due process and equal protection of the law, judicial independence, access to justice, and a firm commitment to the rule of law will continue to allow us to address today’s concerns while anticipating tomorrow’s challenges.

On this Law Day, I encourage all Americans to reflect upon and renew our commitment to our legal traditions. By fostering an open dialogue about law’s role in the 21st century, we help ensure that all people understand, remain dedicated to, and are protected by the principles of government under law.

NOW, THEREFORE, I, BARACK OBAMA, President of the United States of America, in accordance with Public Law 87-20, as amended, do hereby proclaim May 1, 2010, as Law Day, U.S.A. I call upon all Americans to acknowledge the importance of our Nation’s legal and judicial systems with appropriate ceremonies and activities, and to display the flag of the United States in support of this national observance.

IN WITNESS WHEREOF, I have hereunto set my hand this twenty-ninth day of April, in the year of our Lord two thousand ten, and of the Independence of the United States of America the two hundred and thirty-fourth.

[FR Doc. 2010-10746

Filed 5-4-10; 8:45 am]

Billing code 3195-W0-P